DEPARTMENT OF HOMELAND SECURITY

Coast Guard

33 CFR Part 165

[Docket No. USCG-2023-0173]

Security Zone; Lower Mississippi River, Mile Marker 94 to 97 Above Head of Passes, New Orleans, LA

AGENCY: Coast Guard, DHS.

ACTION: Notification of enforcement of regulation.

SUMMARY: The Coast Guard will enforce a security zone for all navigable waters within 400 yards of the Left Descending Bank (LDB) on the Lower Mississippi River (LMR) Mile Marker (MM) 94.4 to MM 95.1, Above Head of Passes (AHP), New Orleans, LA. This security zone is necessary to provide security and protection for visiting personnel during the events related to the French Quarter Festival. Except for Vessel Movement Reporting System Users operating in the Algiers Point VT Special Area, no person or vessel may enter this security zone unless authorized by the Captain of the Port New Orleans (COTP) or a designated representative.

DATES: The regulations in 33 CFR 165.846 will be enforced from 10 a.m. on April 13, 2023, through 10 p.m. on April 16, 2023.

FOR FURTHER INFORMATION CONTACT: If you have questions about this notification of enforcement, call or email Lieutenant Commander William A. Stewart, Sector New Orleans, U.S. Coast Guard; telephone 504-365-2246, email William.A.Stewart@uscg.mil.

SUPPLEMENTARY INFORMATION: The Coast Guard will enforce a security zone in 33 CFR 165.846 for events related to the French Quarter Festival from 10 a.m. on April 13, 2023, through 10 p.m. on April 16, 2023. This action is being taken to provide security and protection for visiting personnel during the events related to the French Quarter Festival. The security zone will cover all navigable waters within 400 yards of the Left Descending Bank on the Lower Mississippi River from MM 94.4 to MM 95.1 AHP, New Orleans, LA. Except for Vessel Movement Reporting System Users operating in the Algiers Point VT Special Area, no person or vessel may enter this security zone unless authorized by the COTP or a designated representative. A designated representative means any Coast Guard commissioned, warrant, or petty officer of the U.S. Coast Guard assigned to units under the operational control of Sector New Orleans; to include a Federal, State, and/or local officer designated by or assisting the COTP in the enforcement of the security zone. To seek permission to enter, contact the COTP or a designated representative on VHF-FM Channel 12 or 67. Those in the security zone must transit at their slowest speed and comply with all lawful orders or directions given to them by the COTP or a designated representative.

In addition to this notification of enforcement in the Federal Register, the Coast Guard plans to provide notification of this enforcement period via the Vessel Traffic Service Advisories, Broadcast Notices to Mariners (BNMs), and/or Marine Safety Information Bulletins (MSIBs).

Dated: March 22, 2023.
K.K. Denning,
Captain, U.S. Coast Guard, Captain of the Port Sector New Orleans.

[FR Doc. 2023-06572 Filed 3-29-23; 8:45 am]

BILLING CODE 9110-04-P